DEPARTMENT OF LABOR

Office of the Secretary

Agency Information Collection Activities; Submission for OMB Review; Comment Request; Default Investment Alternatives Under Participant Directed Individual Account Plans

ACTION: Notice.

SUMMARY: The Department of Labor (DOL) is submitting the Employee Benefits Security Administration (EBSA) sponsored information collection request (ICR) titled, “Default Investment Alternatives under Participant Directed Individual Account Plans,” to the Office of Management and Budget (OMB) for review and approval for continued use, without change, in accordance with the Paperwork Reduction Act of 1995 (PRA). Public comments on the ICR are invited.

DATES: The OMB will consider all written comments that agency receives on or before March 23, 2017.

ADDRESSES: A copy of this ICR with applicable supporting documentation; including a description of the likely respondents, proposed frequency of response, and estimated total burden may be obtained free of charge from the RegInfo.gov Web site at http://www.reginfo.gov/public/do/PRAViewICR?ref_nbr=201701-1210-006 (this link will only become active on the day following publication of this notice) or by contacting Michel Smyth by telephone at 202-693-4129, TTY 202-693-8064, (these are not toll-free numbers) or by email at DOL_PRA_PUBLIC@dol.gov.

Submit comments about this request by mail or courier to the Office of Information and Regulatory Affairs, Attn: OMB Desk Officer for DOL-EBSA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or by email at DOL_PRA_PUBLIC@dol.gov.

SUPPLEMENTARY INFORMATION: This ICR seeks to extend PRA authority for the information collection requirements specified in regulations 29 CFR 2520.104b-1 and 2550.404c-5. More specifically, Employee Retirement Income Security Act of 1974 (ERISA) section 404(c), 29 U.S.C. 1104(c), provides that a participant or beneficiary who can hold an individual account under his or her pension plan and who can exercise control over account assets, as determined in DOL regulations, will not be treated as a plan fiduciary. Moreover, no other plan fiduciary will be liable for any loss, or due to any breach, resulting from the participant's or beneficiary's exercise of control over the individual account assets. The Pension Protection Act, Public Law 109-280, amended the ERISA by adding section 404(c)(5)(A), 29 U.S.C. 1104(c)(5)(A), which provides that a participant in an individual account plan who fails to make investment elections regarding his or her account assets will nevertheless be treated as having exercised control over those assets, so long as the plan provides appropriate notice and invests the assets in accordance with DOL regulations. The DOL, accordingly, promulgated a regulation to offer guidance on the types of investment vehicles that a plan may choose as its qualified default investment alternative (QDIA). The regulation also outlines two information collection requirements. First, it implements the statutory requirement that a plan provide an annual notice to each participant and beneficiary whose account assets could be invested in a QDIA. Second, the regulation requires a plan to pass any pertinent materials it receives from a QDIA to any participant or beneficiary with assets invested in the QDIA, as well to provide certain information on request. These information collections inform participants and beneficiaries who do not make investment elections of the consequences of the failure to elect investments, the ways in which account assets will be invested through the QDIA, and of the continuing opportunity to make other investment elections, including options available under the plan. ERISA section 404(c)(5)(A) authorizes this information collection. See 29 U.S.C. 1104(c)(5)(A).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1210-0132.

OMB authorization for an ICR cannot be for more than three (3) years without renewal, and the current approval for this collection is scheduled to expire on February 28, 2016. The DOL seeks to extend PRA authorization for this information collection for three (3) more years, without any change to existing requirements. The DOL notes that existing information collection requirements submitted to the OMB receive a month-to-month extension while they undergo review. For additional substantive information about this ICR, see the related notice published in the Federal Register on October 28, 2016 (81 FR 75157).

Interested parties are encouraged to send comments to the OMB, Office of Information and Regulatory Affairs at the address shown in the ADDRESSES section within thirty (30) days of publication of this notice in the Federal Register. In order to help ensure appropriate consideration, comments should mention OMB Control Number 1210-0132. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-EBSA.

Title of Collection: Default Investment Alternatives under Participant Directed Individual Account Plans.

OMB Control Number: 1210-0132.

Affected Public: Private Sector—businesses or other for-profits and not-for-profit institutions.

Total Estimated Number of Respondents: 276,222.

Total Estimated Number of Responses: 36,249,796.

Total Estimated Annual Time Burden: 191,640 hours.

Total Estimated Annual Other Costs Burden: $9,959,269.

Authority: 44 U.S.C. 3507(a)(1)(D).

Dated: February 13, 2017.
Michel Smyth,
Departmental Clearance Officer.

[FR Doc. 2017-03359 Filed 2-17-17; 8:45 am]

BILLING CODE 4510-29-P